FEDERAL COMMUNICATIONS COMMISSION

Notice of Public Information Collection(s) Being Submitted to OMB for Review and Approval

June 26, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 7, 2000. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0127 or via the Internet at lesmith@fcc.gov.

SUPPLEMENTARY INFORMATION: OMB Control Number: 3060-0031.

Title: Application for Consent to Assignment of Broadcast Station Construction Permit or License.

Form Number: 314.

Type of Review: Revision of a currently approved collection.

Respondents: Business or other for-profit entities; and not-for-profit institutions.

Number of Respondents: 1,591.

Estimate Time Per Response: 1 to 2 hours.

Frequency of Response: On occasion reporting requirements; Third party disclosure.

Total Annual burden: 2,546 hours.

Total Annual Costs: $12,237,000.

Needs and Uses: Applicants must file FCC Form 314 and applicable exhibits/explanations when applying for consent to assignment of an AM, FM, or TV broadcast station construction permit or license and to comply with the third party disclosure requirements found in Section 73.3580. The applicant must also notify the FCC when an approved assignment of a broadcast station construction permit or license has been consummated. Furthermore, FCC Form 314 now requires applicants to file FCC Form 396-A when filing FCC Form 314. This complies with the Commission's Report and Order in MM Docket Nos. 98-204 and 96-16 which modified the Commission's broadcast and EEO rules and policies consistent with the D.C. Circuit Court's decision in Lutheran Church.

OMB Control Number: 3060-0032.

Title: Application for Consent to transfer Control of Entity Holding Broadcast Station Construction Permit or License.

Form Number: 315.

Type of Review: Revision of a currently approved collection.

Respondents: Business or other for-profit entities; and not-for-profit institutions.

Number of Respondents: 1,591.

Estimate Time Per Response: 1 to 2 hours.

Frequency of Response: On occasion reporting requirements; Third party disclosure.

Total Annual burden: 2,546 hours.

Total Annual Costs: $12,237,000.

Needs and Uses: Applicants must file FCC Form 314 and applicable exhibits/explanations when applying to transfer control of a corporation holding an AM, FM, or TV broadcast station construction permit or license, and comply with the third party disclosure requirements found in Section 73,3580. The applicant must also notify the FCC when an approved assignment of a broadcast station construction permit or license has been consummated. Furthermore, FCC Form 315 now requires applicants to file FCC Form 396-A when filing FCC Form 315. This complies with the Commission's Report and Order in MM Docket Nos. 98-204 and 96-16 which modified the Commission's broadcast and EEO rules and policies consistent with the D.C. Circuit Court's decision in Lutheran Church.

Federal Communications Commission.
Magalie Roman Salas,
Secretary.

[FR Doc. 00-17052 Filed 7-5-00; 8:45 am]

BILLING CODE 6712-01-M